DEPARTMENT OF COMMERCE

National Institute of Standards and Technology

[Docket Number: 200213-0056]

Request for Information Regarding Manufacturing USA Institutes and Processes

AGENCY: National Institute of Standards and Technology, Department of Commerce.

ACTION: Request for Information (RFI).

SUMMARY: The Manufacturing USA reauthorization prescribes three pathways for creating centers for manufacturing innovation or institutes in the Manufacturing USA network. Through this Request for Information (RFI), NIST is seeking comment from the public on the pathway where manufacturing centers outside of Manufacturing USA are recognized by the Secretary of Commerce as centers for manufacturing innovation in response to a formal request by the centers for such recognition. The law provides that a manufacturing center substantially similar to Manufacturing USA institutes, but which do not have federal sponsorship, may be recognized for participation in the network, but does not specify criteria for similarity. This pathway may be termed the “alliance” model for membership in Manufacturing USA. These could be existing agency-sponsored institutes which are no longer under a federal financial aid agreement or existing entities not in the network with relevant characteristics that are new to the network. Through this RFI, NIST also is seeking broad input and participation from stakeholders to assist in identifying and prioritizing issues and proposed solutions on the information provided regarding the proposed “alliance” path to designate a Manufacturing USA Institute, including what should be the minimum characteristics and requirements for such entities.

DATES: Comments must be received by 5:00 p.m. Eastern time on August 25, 2020. Written comments in response to the RFI should be submitted according to the instructions in the ADDRESSES and SUPPLEMENTARY INFORMATION sections below. Submissions received after that date may not be considered.

ADDRESSES:

For Comments:

Responses can be submitted by either of the following methods:

Website: https://docs.google.com/forms/d/e/1FAIpQLSd1NhLXHHHy-hnj9xpxZ85MAMmTMxMxgGglc8LW6r7QWI55Xg/viewform. Follow the instructions for sending comments on the agency website.

Email: manufacturingusa@nist.gov. Include “RFI Response: Manufacturing USA Institutes and Processes” in the subject line of the message.

Instructions: Attachments will be accepted in plain text, Microsoft Word, or Adobe PDF formats. Comments containing references, studies, research, and other empirical data that are not widely published should include copies or electronic links of the referenced materials.

All submissions, including attachments and other supporting materials, will become part of the public record and subject to public disclosure. NIST reserves the right to publish relevant comments publicly, unedited and in their entirety. Personal information, such as account numbers or Social Security numbers, or names of other individuals, should not be included. Do not submit confidential business information, or otherwise sensitive or protected information. Comments that contain profanity, vulgarity, threats, or other inappropriate language or content will not be considered.

FOR FURTHER INFORMATION CONTACT: Ms. Margaret Phillips, Associate Director for Competitions, Office of Advanced Manufacturing, National Institute of Standards and Technology, 100 Bureau Drive MS 4700, Gaithersburg, MD 20899, 301-975-4350, or by email to manufacturingusa@nist.gov.

SUPPLEMENTARY INFORMATION:

I. Background

Manufacturing USA was authorized by the Revitalize American Manufacturing and Innovation Act in December 2014.¹ In 2019 the House Science Committee convened a hearing on Manufacturing USA, leading to the House passing the American Manufacturing Leadership Act. Concurrently the Senate developed and passed the Global Leadership in Manufacturing Act. Both of these bills were reconciled and included into the National Defense Authorization Act, which was signed into law on December 20, 2019.² This Manufacturing USA reauthorization prescribes three pathways for creating centers for manufacturing innovation, or institutes in the Manufacturing USA network. The three pathways are:

¹ Consolidated and Further Continuing Appropriations Act, 2015, Public Law 113-235, Title VII—Revitalize American Manufacturing Innovation Act of 2014, codified at 15 U.S.C. 278s.

² National Defense Authorization Act for Fiscal Year 2020, Public Law 116-92, codified at 15 U.S.C. 278s, as amended.

(1) Institutes established pursuant to Federal law or executive actions which became members of the network,

(2) institutes created via competitions held by the Secretary of Commerce through the National Institute of Standards and Technology (NIST), and

(3) manufacturing centers outside of Manufacturing USA but recognized by the Secretary of Commerce as centers for manufacturing innovation in response to a formal request by the centers for such recognition. “A manufacturing center that is substantially similar to those established under this subsection but does not receive financial assistance under subsection (d) may, upon request of the center, be recognized as a center for manufacturing innovation by the Secretary for purposes of participation in the Network”.

The third pathway may be termed the “alliance” model for membership in Manufacturing USA. These could be existing agency-sponsored institutes which are no longer under a federal financial aid agreement or existing entities not in the network with relevant characteristics that are new to the network. NIST is seeking broad input and participation from stakeholders to assist in identifying and prioritizing issues and proposed solutions on the information provided regarding the proposed “alliance” path to establish a Manufacturing USA Institute.

Anticipated Benefits and Impact of the “Alliance” Model

Benefits to the Joining Entities

Entities that seek to join Manufacturing USA through the “alliance” model stand to benefit in ways that are both tangible and intangible. Some of the key benefits are identified below.

• Formal recognition and “branding” with associated visibility as a national manufacturing innovation institute.

• Membership in a nationwide network of manufacturing innovation institutes with associated support.

○ Enhanced communication with leadership of the Manufacturing USA Institutes.

○ Opportunities for synergistic collaboration with other institutes in the network.

○ Access to the shared network services offered by the National Program Office.³

³ The interagency Advanced Manufacturing National Program Office (AMNPO), which is headquartered at NIST, is tasked with the role of the National Program Office for Manufacturing USA.

• Eligibility for programmatic funding specifically for entities designated as Manufacturing USA Institutes which are not federally sponsored. Grants may be awarded on a competitive basis, subject to the availability of funds, for public service activities, such as workforce development, outreach to small- and medium-sized manufacturers, and other activities aligned with the mission of Manufacturing USA.

Benefits to the Manufacturing USA Program and Existing Institutes

The alliance model for new manufacturing innovation institutes and their induction into Manufacturing USA can facilitate expansion of the network, and technical areas not currently addressed by existing or pending Manufacturing USA Institutes can be established. In doing so, the federal government can significantly leverage its existing and future Manufacturing USA investments to spur the U.S. advanced manufacturing efforts already underway.

The extensive public and private sector inputs gathered by the Advanced Manufacturing Partnership (AMP) initiatives 4 5 and by the five “Designing for Impact” regional workshops ⁶ held around the country clearly indicate that several technology areas of importance to U.S. manufacturers remain to be addressed by Manufacturing USA. The alliance model can serve as a cost-effective pathway to rapidly expand technology coverage, geographical reach, and national impact of Manufacturing USA. It should however be noted that the “alliance” model is not intended to be a substitute for robust long-term federal support of Manufacturing USA.

⁴ Report to the President on Capturing Domestic Competitive Advantage in Advanced Manufacturing, Executive Office of the President, President's Council of Advisors on Science and Technology, July 2012.

⁵ Report to the President on Accelerating U.S. Advanced Manufacturing, Executive Office of the President, President's Council of Advisors on Science and Technology, October 2014.

⁶ National Network for Manufacturing Innovation: A Preliminary Design, Executive Office of the President, National Science and Technology Council, Advanced Manufacturing National Program Office, January 2013.

Institutes in the network have the potential to improve the competitiveness of United States manufacturing, including in key advanced manufacturing technologies, and to accelerate non-Federal investment in advanced manufacturing production capacity in the United States.

Existing institutes in Manufacturing USA also stand to benefit from their association with the alliance members. Some of the key potential benefits to existing institutes that are already in the network are listed below.

• The new technology topics of the joining entities will enrich the network of institutes and will provide additional opportunities for the existing institutes to leverage complementary technical capabilities and services offered by the alliance members.

• Alliance members will have different operational and governance models. The existing and future Manufacturing USA Institutes, and their federal sponsor agencies, stand to benefit from the best practices gleaned from the different operational models adopted.

Proposed Process for Alliance Model Institutes

1. Information about the application process will be on the Manufacturing USA website.

2. Interested applicants can apply at any time.

3. Applications will be evaluated by a panel of Federal employees against evaluation criteria to be determined. If additional information is needed, it can be requested by the panel.

4. Applicants will be notified of the decision with regard to the review.

5. If an applicant is selected for as an alliance institute, a binding Memorandum of Understanding will be executed by the applicant and NIST. A template MOU will be made available on the website along with instructions.

6. The addition is announced and added to appropriate messaging as a network member.

7. An orientation to the network will be provided by Advanced Manufacturing National Program Office to each new member.

Request for Information

Respondents are encouraged—but are not required—to respond to each question and to present their answers after each question. The following questions cover the major areas about which NIST seeks comment. Respondents may organize their submissions in response to this RFI in any manner. Responses may include estimates, which should be identified as such.

All responses that comply with the requirements listed in the DATES and ADDRESSES sections of this RFI will be considered.

NIST is interested in receiving responses to the following questions from the stakeholder community:

1. Congress has defined specific goals and activities for federally sponsored Manufacturing USA Institutes. Which of these goals and activities should be minimal requirements for “alliance pathway” institutes?

2. Should all Manufacturing USA Institutes brought into the network under an “alliance pathway” follow the same process? If not, what should be the differences?

3. Who/what types of entities should be eligible to join the Manufacturing USA network using the ”alliance pathway”?

4. What additional opportunities should be considered for a Manufacturing USA alliance institute? Technical projects? Education and workforce efforts? Others?

5. Should joining the Manufacturing USA network change any aspect of how a current organization operates?

6. What, if any, administrative, reporting, and meeting responsibilities should be required for the alliance institutes? For those responsibilities, what technical or other support should NIST provide to assist the alliance institutes?

7. Should institutes joining the Manufacturing USA network be able to accept projects or funding from foreign entities? If so, under what terms should foreign entities be able to participate?

8. If an existing organization becomes a member of Manufacturing USA via the “alliance pathway,” should that organization still be eligible to apply to be a fully funded institute under a competition sponsored by a federal agency?

9. How might the alliance pathway be structured to ease entry to the network by manufacturing centers that specifically address underrepresented technology areas of importance to U.S. manufacturers, or that increase the geographic reach and accessibility of the Network to underserved customers and communities?

10. What types of relationships should exist, or be required, between applicant entities and other federal manufacturing programs, such as NIST's Manufacturing Extension Partnership (MEP)?

11. Does the proposed process, as described in this notice, seem appropriate? Any suggestions for changes?

12. Applications will be evaluated by a panel using evaluation criteria that has yet to be determined. What are some relevant evaluation criteria for use in this process?

13. Do you have any other comments or suggestions related to this proposed approach?

Authority: 15 U.S.C. 278s, as amended.

Kevin A. Kimball,
Chief of Staff.

[FR Doc. 2020-03896 Filed 2-26-20; 8:45 am]

BILLING CODE 3510-13-P